FEDERAL ELECTION COMMISSION

Sunshine Act Notice

* * * * *

Date and Time: Tuesday, October 19, 2004 at 10 a.m.

Place: 999 E Street NW., Washington, DC

Status: This meeting will be closed to the public.

Items to be Discussed:

Compliance matters pursuant to 2 U.S.C. 437g.

Audits conducted pursuant to 2 U.S.C. 437g, 438(b), and Title 26, U.S.C.

Matters concerning participation in civil actions or proceedings or arbitration.

Internal personnel rules and procedures or matters affecting a particular employee.

* * * * *

Date and Time: Thursday, October 21, 2004 at 10 a.m.

Place: 999 E Street NW., Washington, DC (Ninth floor).

Status: This meeting will be opened to the public.

Items to be Discussed:

Correction and Approval of Minutes.

Advisory Opinion 2004-34: The Libertarian Party of Virginia by Kevin McKenna, Treasurer.

Advisory Opinion 2004-37: Representative Maxine Waters by counsel, Joseph M. Birkenstock.

Explanation and Justification for Political Committee Rulemaking.

Candidate Debates—Notice of Disposition of Petition for Rulemaking.

Routine Administrative Matters.

FOR FURTHER INFORMATION CONTACT: Mr. Robert Biersack, Acting Press Officer, Telephone (202) 694-1220.

Mary W. Dove,
Secretary of the Commission.

[FR Doc. 04-23193 Filed 10-12-04; 3:16 pm]

BILLING CODE 6715-01-M